Title 3—

The President

Memorandum of February 19, 2015

Delegation of Authority Under the Ukraine Freedom Support Act of 2014

Memorandum for the Secretary of State

By the authority vested in me as President by the Constitution and the laws of the United States of America, including section 301 of title 3, United States Code, I hereby order as follows:

I hereby delegate to the Secretary of State the authority to prepare and submit to the Congress the reports and strategies required by subsections 6(b), 7(d), 9(c), and 10(c) of the Ukraine Freedom Support Act of 2014 (Public Law 113-272) (the “Act”).

Any reference in this memorandum to the Act shall be deemed to be a reference to any future Act that is the same or substantially the same as such provision.

You are authorized and directed to publish this memorandum in the Federal Register.

THE WHITE HOUSE,

Washington, February 19, 2015

[FR Doc. 2015-05355

Filed 3-5-15; 08:45 am]

Billing code 4710-10